DEPARTMENT OF AGRICULTURE

Forest Service

Forest Counties Payments Committee Meeting

AGENCY: Forest Service, USDA.

ACTION: Notice of meeting.

SUMMARY: The Forest Counties Payments Committee has scheduled a meeting to discuss how it will provide Congress with the information specified in Section 320 of the Fiscal Year 2001 Interior and Related Agencies Appropriations Act. The meeting is open to the public.

DATES: The meeting will be held on April 30, 2007. The meeting will consist of a business session from 9 a.m. until 12 p.m., which will be open to public attendance, followed by a session open to public participation from 1 p.m. until 5 p.m.

ADDRESSES: The meeting will be held at the Board of Supervisors Chamber, on the 1st floor of the Coconino County Administrative Building, 219 East Cherry Lane, Flagstaff, AZ. Written comments concerning this meeting should be addressed to Randle G. Phillips, Executive Director, Forest Counties Payments Committee, P.O. Box 34718, Washington, DC 20043-4713. Comments may also be sent via e-mail to rphillips01@fs.fed.us, or via facsimile to (202) 273-4750.

All comments, including names and addresses when provided, are placed in the record and are available for public inspection and copying. The public may inspect comments received at USDA Forest Service, Franklin Court Building, Ste. 5500W, 1099 14th Street NW., Washington, DC 20005. Visitors are encouraged to call ahead to (202) 208-6574 to facilitate entry into the building.

FOR FURTHER INFORMATION CONTACT: Randle G. Phillips, Executive Director, Forest Counties Payments Committee, at (202) 208-6574 or via e-mail at rphillips01@fs.fed.us.

Individuals who use telecommunication devices for the deaf (TDD) may call the Federal Information Relay Service (FIRS) at 1-800-877-8339 between 8 a.m. and 8 p.m., Eastern Standard Time, Monday through Friday.

SUPPLEMENTARY INFORMATION: Section 320 of the Interior and Related Agencies Appropriations Act of 2001 created the Forest Counties Payments Committee to make recommendations to Congress on a long-term solution for making Federal payments to eligible States and counties in which Federal lands are situated. The Committee will consider the impact on eligible States and counties of revenues from the historic multiple use of Federal lands; evaluate the economic, environmental, and social benefits which accrue to counties containing Federal lands; evaluate the expenditures by counties on activities occuring on Federal lands, which are Federal responsibilities; and monitor payments and implementation of The Secure Rural Schools and Community Self-Determination Act of 2000 (P.L. 106-393).

Dated: April 5, 2007.
Sally Collins,
Associate Deputy Chief, Forest Service.

[FR Doc. E7-6770 Filed 4-10-07; 8:45 am]

BILLING CODE 3410-11-P